FEDERAL MARITIME COMMISSION

Notice of Agreements Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement Nos.: 011560-004, 011561-004, 011562-005.

Title: The Transatlantic Bridge Agreement; COSCO/KL Transatlantic Vessel Sharing Agreement; KL/YM Transatlantic Vessel Sharing Agreement.

Parties:

COSCO Container Lines Company,

Limited, Kawasaki

Kisen Kaisha, Ltd.,

Yangming Marine Transport Corporation.

Synopsis: The proposed agreement modifications add ports in the Mediterranean to the geographic scope of the three agreements.

Agreement No.: 011637-007.

Title: AMPAC Cooperative Working Agreement.

Parties:

TMM Lines Limited, LLC,

Hamburg-Süd,

Maruba S.C.A.,

Compania Chilena De Navegacion Interoceanica, S.A.

Synopsis: The proposed amendment adds Compania Chilena De Navegacion Interoceanica, S.A. as a party, revises the number of vessels to be provided by each party, and amends the allocation of space among the parties.

Agreement No.: 011737-005.

Title: The MCA Agreement.

Parties:

Alianca Navegacao e Logistica Ltda.,

Antillean Marine Shipping Corporation,

CMA CGM, S.A.,

Companhia Libra de Navegacao,

Compania Sud Americana de Vapores S.A.,

CP Ships (UK) Limited d.b.a. ANZDL and d.b.a. Contship Containerlines,

Crowley Liner Services, Inc.,

Dole Ocean Cargo Express, Inc.,

Hamburg Sud,

Hapag-Lloyd Container Linie,

King Ocean Central America S.A.,

King Ocean Service De Colombia S.A.,

King Ocean Service De Venezuela S.A.,

Lykes Lines Limited, LLC,

Montemar Maritima S.A.,

Nippon Yusen Kaisha,

Norasia Container Line Limited,

Tecmarine Lines, Inc.,

TMM Lines Limited, LLC,

Tropical Shipping & Construction Co., Ltd.,

Wallenius Wilhelmsen Lines AS.

Synopsis: The proposed amendment adds Nippon Yusen Kaisha as a party to the agreement and deletes Far Eastern Shipping Company as a party to the agreement.

Agreement No.: 011798.

Title: Atlantic Space Charter Agreement.

Parties:

Hapag-Lloyd Container Linie GmbH,

Nippon Yusen Kaisha,

Orient Overseas Container Line Limited,

Orient Overseas Container Line Inc.,

Orient Overseas Container Line (UK) Ltd.,

P&O Nedlloyd Limited,

P&O Nedlloyd BV,

Lykes Lines Limited, LLC,

TMM Lines Limited, LLC,

COSCO Container Lines Company, Ltd.,

Hanjin Shipping Co., Ltd.,

Kawasaki Kisen Kaisha, Ltd.,

YangMing (UK) Ltd.

Synopsis: The proposed agreement establishes a vessel-sharing agreement among the parties in the trade between Miami, New Orleans, and Houston, on the one hand, and ports in North Europe, on the other.

Agreement No.: 201098-002.

Title: New Orleans/Carnival Terminal Agreement.

Parties: The Board of Commissioners of the Port of New Orleans Carnival Corporation.

Synopsis: The proposed amendment is a restatement of the original agreement and also includes provisions for an expanded terminal. The agreement now is to run through November 26, 2007.

Dated: April 12, 2002.
By Order of the Federal Maritime Commission.
Theodore A. Zook,
Assistant Secretary.

[FR Doc. 02-9366 Filed 4-17-02; 8:45 am]

BILLING CODE 6730-01-P